DEPARTMENT OF LABOR

Employment and Training Administration

[TA-W-39,434]

Kentucky, Electric Steel, Ashland, KY; Notice of Termination of Investigation

Pursuant to section 221 of Trade Act of 1974, an investigation was initiated on June 18, 2001 in response to a worker petition which was filed on the same date on behalf of workers at Kentucky Electric Steel, Ashland, Kentucky.

The petitioning group of workers is subject to an ongoing investigation for which a determination has not yet been issued (TA-W-39,419). Consequently, further investigation in this case would serve no purpose, and the investigation has been terminated.

Signed in Washington, DC this 13th day of December, 2001.
Linda G. Poole,
Certifying Officer, Division of Trade Adjustment Assistance.

[FR Doc. 01-31628 Filed 12-21-01; 8:45 am]

BILLING CODE 4510-30-M